Title 3—

The President

Proclamation 10134 of January 15, 2021

Religious Freedom Day, 2021

By the President of the United States of America

A Proclamation

Faith inspires hope. Deeply embedded in the heart and soul of our Nation, this transcendent truth has compelled men and women of uncompromising conscience to give glory to God by worshiping both openly and privately, lifting up themselves and others in prayer. On Religious Freedom Day, we pledge to always protect and cherish this fundamental human right.

When the Pilgrims first crossed the Atlantic Ocean more than 400 years ago in pursuit of religious freedom, their dedication to this first freedom shaped the character and purpose of our Nation. Later, with the signing of the Declaration of Independence, the Constitution, and the Bill of Rights, their deep desire to practice their religion unfettered from government intrusion was realized. Since then, the United States has set an example for the world in permitting believers to live out their faith in freedom.

Over the past 4 years, my Administration has worked tirelessly to honor the vision of our Founders and defend our proud history of religious liberty. From day one, we have taken action to restore the foundational link between faith and freedom and promote a culture of religious liberty. My Administration has protected the rights of individual religious believers, communities of faith, and faith-based organizations. We have defended religious liberty domestically and around the world. For example, I signed an Executive Order Promoting Free Speech and Religious Liberty to ensure that faith-based organizations would not be forced to compromise their religious beliefs as they serve their communities. This includes defending the rights of religious orders to care for the infirm and elderly without being fined out of existence for refusing to facilitate access to services that violate their faith.

We have also protected healthcare providers' rights not to be forced to perform procedures that violate their most deeply-held convictions. Additionally, we have ended the misguided policies of denying access to educational funding to historically black colleges and universities because of their religious character and of denying loan forgiveness to those who perform public services at religious organizations. Throughout this difficult year, we have continued these efforts, cutting red tape to ensure houses of worship and other faith-based organizations could receive Paycheck Protection Program loans on the same grounds and with the same parameters as any other entity. We have also aggressively defended faith communities against overreach by State and local governments that have tried to shut down communal worship. Together, we have honored the sanctity of every life, protected the rights of Americans to follow their conscience, and preserved the historical tradition of religious freedom in our country.

While Americans enjoy the blessings of religious liberty, we must never forget others around the world who are denied this unalienable right. Sadly, millions of people across the globe are persecuted and discriminated against for their faith. My Administration has held foreign governments accountable for trampling—in many cases, egregiously so—on religious liberty. In 2019, to shed light on this important issue, I welcomed survivors of religious persecution from 16 countries in the Oval Office, including Christians, Jews, and Muslims, and made history by standing before the United Nations General Assembly and calling on all nations of the world to stop persecuting people of faith. The United States will never waver in these efforts to expand religious liberty around the world and calls on all nations to respect the rights of its citizens to live according to their beliefs and conscience.

On Religious Freedom Day, we honor the vision of our Founding Fathers for a Nation made strong and righteous by a people free to exercise their faith and follow their conscience. As Americans united in unparalleled freedom, we recommit to safeguarding and preserving religious freedom across our land and around the world.

NOW, THEREFORE, I, DONALD J. TRUMP, President of the United States of America, by virtue of the authority vested in me by the Constitution and the laws of the United States, do hereby proclaim January 16, 2021, as Religious Freedom Day. I call on all Americans to commemorate this day with events and activities that remind us of our shared heritage of religious liberty and that teach us how to secure this blessing both at home and around the world.

IN WITNESS WHEREOF, I have hereunto set my hand this fifteenth day of January, in the year of our Lord two thousand twenty-one, and of the Independence of the United States of America the two hundred and forty-fifth.

[FR Doc. 2021-01564

Filed 1-21-21; 8:45 am]

Billing code 3295-F1-P